DEPARTMENT OF ENERGY

Federal Energy Regulatory Commission

Combined Notice of Filings #1

Take notice that the Commission received the following electric corporate filings:

Docket Numbers: EC21-125-000.

Applicants: PSEG New Haven LLC, PSEG Power Connecticut LLC, PSEG Power New York LLC, Generation Bridge II, LLC.

Description: Errata to September 2, 2021 Joint Application for Authorization Under Section 203 of the Federal Power Act of PSEG New Haven LLC, et al.

Filed Date: 9/28/21.

Accession Number: 20210928-5088.

Comment Date: 5 p.m. ET 11/2/21.

Docket Numbers: EC21-128-000.

Applicants: PSEG Fossil LLC, PSEG Fossil Sewaren Urban Renewal LLC, PSEG Keys Energy Center LLC, PSEG Energy Resources & Trade LLC, Parkway Generation, LLC, Parkway Generation Essex, LLC.

Description: Errata to September 2, 2021 Joint Application for Authorization Under Section 203 of the Federal Power Act of PSEG Fossil LLC, et al.

Filed Date: 9/28/21.

Accession Number: 20210928-5102.

Comment Date: 5 p.m. ET 11/1/21.

Take notice that the Commission received the following exempt wholesale generator filings:

Docket Numbers: EG21-258-000.

Applicants: Dunns Bridge Solar LLC.

Description: Notice of Self-Certification of Exempt Wholesale Generator Status of Dunns Bridge Solar LLC.

Filed Date: 9/28/21.

Accession Number: 20210928-5140.

Comment Date: 5 p.m. ET 10/19/21.

Take notice that the Commission received the following electric rate filings:

Docket Numbers: ER21-2337-001.

Applicants: ISO New England Inc., Participating Transmission Owners Administrative Committee.

Description: ISO New England Inc., submits Response to Commissions August 20, 2021 Deficiency Letter.

Filed Date: 9/20/21.

Accession Number: 20210920-5181.

Comment Date: 5 p.m. ET 10/12/21.

Docket Numbers: ER21-2722-001.

Applicants: E. BarreCo Corp LLC.

Description: Tariff Amendment: Amendment to 1 to be effective 10/20/2021.

Filed Date: 9/28/21.

Accession Number: 20210928-5137.

Comment Date: 5 p.m. ET 10/19/21.

Docket Numbers: ER21-2946-000.

Applicants: The Connecticut Light and Power Company.

Description: § 205(d) Rate Filing: Study Work Agreement with New York Independent System Operator, Inc. to be effective 9/29/2021.

Filed Date: 9/28/21.

Accession Number: 20210928-5014.

Comment Date: 5 p.m. ET 10/19/21.

Docket Numbers: ER21-2947-000.

Applicants: NRG Power Marketing LLC.

Description: NRG Power Marketing LLC submits Request for Limited, One-Time Waiver of the New York Independent System Operator Inc. Market Administration and Control Area Services Tariff.

Filed Date: 9/27/21.

Accession Number: 20210927-5190.

Comment Date: 5 p.m. ET 10/18/21.

Docket Numbers: ER21-2948-000.

Applicants: Southern California Edison Company.Description: § 205(d) Rate Filing: 2021 Revised Added Facilities Rate for Rate Schedules to be effective 10/1/2021.

Filed Date: 9/28/21.

Accession Number: 20210928-5070.

Comment Date: 5 p.m. ET 10/19/21.

Docket Numbers: ER21-2949-000.

Applicants: Alabama Power Company.

Description: § 205(d) Rate Filing: SEPA Amended and Restated Network Agreement Filing (Revision No. 11) to be effective 9/1/2021.

Filed Date: 9/28/21

Accession Number: 20210928-5101.

Comment Date: 5 p.m. ET 10/19/21.

Docket Numbers: ER21-2950-000.

Applicants: California Independent System Operator Corporation.Description: § 205(d) Rate Filing: 2021-09-28 EIM Implementation Agreement—WAPA to be effective 11/28/2021.

Filed Date: 9/28/21.

Accession Number: 20210928-5116.

Comment Date: 5 p.m. ET 10/19/21.

Docket Numbers: ER21-2951-000.

Applicants: Ameren Illinois Company.

Description: § 205(d) Rate Filing: Reimbursement Agreement—PPI-Murrayville, Rate Schedule 156 to be effective 11/29/2021.

Filed Date: 9/28/21.

Accession Number: 20210928-5123.

Comment Date: 5 p.m. ET 10/19/21.

Take notice that the Commission received the following qualifying facility filings:

Docket Numbers: QF21-1278-000.

Applicants: 575 Fifth Avenue CHP LLC.

Description: Form 556 of 575 Fifth Avenue CHP LLC.

Filed Date: 9/28/21.

Accession Number: 20210928-5085.

Comment Date: 10/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2021.
Debbie-Anne A. Reese,
Deputy Secretary.

[FR Doc. 2021-21522 Filed 10-1-21; 8:45 am]

BILLING CODE 6717-01-P